DEPARTMENT OF ENERGY

Federal Energy Regulatory Commission

Combined Notice of Filings #1

October 22, 2010.

Take notice that the Commission received the following electric rate filings:

Docket Numbers: ER97-2801-030; ER99-2156-021; ER96-719-028; ER07-1236-005.

Applicants: PacifiCorp; Cordova Energy Company LLC; MidAmerican Energy Company; Yuma Cogeneration Associates.

Description: PacifiCorp et al., submits a supplement to the Triennial Market Power Update.

Filed Date: 10/19/2010.

Accession Number: 20101021-0006.

Comment Date: 5 p.m. Eastern Time on Tuesday, November 9, 2010.

Docket Numbers: ER03-329-010; ER07-597-005.

Applicants: Northwestern Corporation; Montana Generation, LLC.

Description: NorthWestern Corp submits a supplement to the Triennial Market Update Analysis for Northwest Region.

Filed Date: 10/18/2010.

Accession Number: 20101019-0043.

Comment Date: 5 p.m. Eastern Time on Monday, November 8, 2010.

Docket Numbers: ER10-1820-002.

Applicants: Northern States Power Company, a Wisconsin Corporation.

Description: Northern States Power Company, a Wisconsin corporation submits tariff filing per 35: 20101021—Amendment to baseline concurrence to be effective 7/20/2010.

Filed Date: 10/21/2010.

Accession Number: 20101021-5118.

Comment Date: 5 p.m. Eastern Time on Friday, November 12, 2010.

Docket Numbers: ER10-2097-002.

Applicants: KCP&L Greater Missouri Operations Company.

Description: KCP&L Greater Missouri Operations Company submits tariff filing per 35: GMO MBR Mitigation Compliance Filing to be effective 8/2/2010.

Filed Date: 10/22/2010.

Accession Number: 20101022-5055.

Comment Date: 5 p.m. Eastern Time on Friday, November 12, 2010.

Docket Numbers: ER10-2240-001.

Applicants: Portland General Electric Company.

Description: Portland General Electric Company submits tariff filing per 35: PGE 12 Baseline Filing to be effective 8/16/2010.

Filed Date: 10/22/2010.

Accession Number: 20101022-5084.

Comment Date: 5 p.m. Eastern Time on Friday, November 12, 2010.

Docket Numbers: ER10-2245-001.

Applicants: Portland General Electric Company.

Description: Portland General Electric Company submits tariff filing per 35: PGE 13 Ancillary Services Tariff Baseline to be effective 8/16/2010.

Filed Date: 10/22/2010.

Accession Number: 20101022-5111.

Comment Date: 5 p.m. Eastern Time on Friday, November 12, 2010.

Docket Numbers: ER10-2248-001.

Applicants: Portland General Electric Company.

Description: Portland General Electric Company submits tariff filing per 35: PGE-2 Filing of CBR to be effective 8/17/2010.

Filed Date: 10/22/2010.

Accession Number: 20101022-5128.

Comment Date: 5 p.m. Eastern Time on Friday, November 12, 2010.

Docket Numbers: ER10-2249-001.

Applicants: Portland General Electric Company.

Description: Portland General Electric Company submits tariff filing per 35: MBR Baseline eTariff Filing to be effective 8/17/2010.

Filed Date: 10/22/2010.

Accession Number: 20101022-5125.

Comment Date: 5 p.m. Eastern Time on Friday, November 12, 2010.

Docket Numbers: ER10-2707-001.

Applicants: Mid-Continent Energy Marketers Association.

Description: Mid-Continent Energy Marketers Association submits tariff filing per 35: Amendment to Pending Baseline Tariff Filing to be effective 10/22/2010.

Filed Date: 10/22/2010.

Accession Number: 20101022-5085.

Comment Date: 5 p.m. Eastern Time on Friday, November 12, 2010.

Docket Numbers: ER10-2710-004.

Applicants: PJM Interconnection, L.L.C.

Description: PJM Interconnection, L.L.C. submits tariff filing per 35: PJM submits an Errata filing to the RAA in PJM's Baseline filing in ER10-2710 to be effective 9/17/2010.

Filed Date: 10/21/2010.

Accession Number: 20101021-5131.

Comment Date: 5 p.m. Eastern Time on Friday, November 12, 2010.

Docket Numbers: ER10-2765-001.

Applicants: Dighton Power, LLC.

Description: Dighton Power, LLC submits tariff filing per 35: Amendment to Baseline Tariff Filing to be effective 9/20/2010.

Filed Date: 10/22/2010.

Accession Number: 20101022-5038.

Comment Date: 5 p.m. Eastern Time on Friday, November 12, 2010.

Docket Numbers: ER10-2766-001.

Applicants: Lake Road Generating Company, L.P.

Description: Lake Road Generating Company, L.P. submits tariff filing per 35: Amendment to Baseline Tariff Filing to be effective 9/20/2010.

Filed Date: 10/22/2010.

Accession Number: 20101022-5069.

Comment Date: 5 p.m. Eastern Time on Friday, November 12, 2010.

Docket Numbers: ER10-2767-001.

Applicants: MASSPOWER.

Description: MASSPOWER submits tariff filing per 35: Amendment to Baseline Tariff Filing to be effective 9/20/2010.

Filed Date: 10/22/2010.

Accession Number: 20101022-5072.

Comment Date: 5 p.m. Eastern Time on Friday, November 12, 2010.

Docket Numbers: ER10-2768-001.

Applicants: Empire Generating Co, LLC.

Description: Empire Generating Co, LLC submits tariff filing per 35: Amendment to Baseline Tariff Filing to be effective 9/20/2010.

Filed Date: 10/22/2010.

Accession Number: 20101022-5062.

Comment Date: 5 p.m. Eastern Time on Friday, November 12, 2010.

Docket Numbers: ER10-2769-001.

Applicants: ECP Energy I, LLC.

Description: ECP Energy I, LLC submits tariff filing per 35: Amendment to Baseline Tariff Filing to be effective 9/20/2010.

Filed Date: 10/22/2010.

Accession Number: 20101022-5047.

Comment Date: 5 p.m. Eastern Time on Friday, November 12, 2010.

Docket Numbers: ER10-2770-001.

Applicants: EquiPower Resources Management, LLC.

Description: EquiPower Resources Management, LLC submits tariff filing per 35: Amendment to Baseline Tariff Filing to be effective 9/20/2010.

Filed Date: 10/22/2010.

Accession Number: 20101022-5064.

Comment Date: 5 p.m. Eastern Time on Friday, November 12, 2010.

Docket Numbers: ER10-2802-001.

Applicants: Kimberly-Clark Corporation.

Description: Kimberly-Clark Corporation submits tariff filing per 35: Compliance Baseline Tariff Filing to be effective 9/21/2010.

Filed Date: 10/21/2010.

Accession Number: 20101021-5143.

Comment Date: 5 p.m. Eastern Time on Friday, November 12, 2010.

Docket Numbers: ER11-1863-000.

Applicants: Midwest Independent Transmission System Operator, Inc.

Description: Midwest Independent Transmission System Operator, Inc., submits tariff filing per 35.13(a)(2)(iii): Duke-Vectren IA to be effective 10/23/2010.

Filed Date: 10/22/2010.

Accession Number: 20101022-5028.

Comment Date: 5 p.m. Eastern Time on Friday, November 12, 2010.

Docket Numbers: ER11-1864-000.

Applicants: Societe Generale Energie (USA) Corp.

Description: Societe Generale Energie (USA) Corp. submits tariff filing per 35: SocGen Order 697 Compliance Filing to be effective 10/12/2010.

Filed Date: 10/22/2010.

Accession Number: 20101022-5049.

Comment Date: 5 p.m. Eastern Time on Friday, November 12, 2010.

Docket Numbers: ER11-1865-000.

Applicants: Tucson Electric Power Company.

Description: Tucson Electric Power Company submits tariff filing per 35: OATT Reassignment Compliance Filing to be effective 10/1/2010.

Filed Date: 10/22/2010.

Accession Number: 20101022-5058.

Comment Date: 5 p.m. Eastern Time on Friday, November 12, 2010.

Docket Numbers: ER11-1866-000.

Applicants: Duke Energy Carolinas, LLC.

Description: Duke Energy Carolinas, LLC submits tariff filing per 35.13(a)(2)(iii): NERC Assessment Tariff Filing to be effective 1/1/2011.

Filed Date: 10/22/2010.

Accession Number: 20101022-5070.

Comment Date: 5 p.m. Eastern Time on Friday, November 12, 2010.

Docket Numbers: ER11-1867-000.

Applicants: Public Service Company of New Mexico.

Description: Public Service Company of New Mexico submits tariff filing per 35: PNM Compliance Filing in Docket No. EL10-61 to be effective 10/25/2010.

Filed Date: 10/22/2010.

Accession Number: 20101022-5074.

Comment Date: 5 p.m. Eastern Time on Friday, November 12, 2010.

Docket Numbers: ER11-1868-000.

Applicants: Louisville Gas and Electric Company.

Description: Louisville Gas and Electric Company submits tariff filing per 35: Order No 739 Compliance Filing OATT Section 23 to be effective 10/1/2010.

Filed Date: 10/22/2010.

Accession Number: 20101022-5086.

Comment Date: 5 p.m. Eastern Time on Friday, November 12, 2010.

Docket Numbers: ER11-1869-000.

Applicants: UNS Electric, Inc.

Description: UNS Electric, Inc. submits tariff filing per 35: OATT Reassignment Compliance Filing to be effective 10/1/2010.

Filed Date: 10/22/2010.

Accession Number: 20101022-5089.

Comment Date: 5 p.m. Eastern Time on Friday, November 12, 2010.

Docket Numbers: ER11-1870-000.

Applicants: Consolidated Edison Company of New York, Inc.

Description: Consolidated Edison Company of New York, Inc. submits tariff filing per 35.13(a)(2)(iii): Amendment to PASNY and EDDS tariffs for DR to be effective 12/22/2010.

Filed Date: 10/22/2010.

Accession Number: 20101022-5096.

Comment Date: 5 p.m. Eastern Time on Friday, November 12, 2010.

Docket Numbers: ER11-1871-000.

Applicants: Mississippi Power Company.

Description: Mississippi Power Company submits tariff filing per 35.13(a)(1): 2010 MRA Rate Case to be effective 12/21/2010.

Filed Date: 10/22/2010.

Accession Number: 20101022-5118.

Comment Date: 5 p.m. Eastern Time on Friday, November 12, 2010.

Docket Numbers: ER11-1872-000.

Applicants: Carolina Power & Light Company.

Description: Carolina Power & Light Company submits tariff filing per 35.13(a)(2)(iii): Rate Schedule No. 173 of Carolina Power and Light Co. to be effective 12/11/2010.

Filed Date: 10/22/2010.

Accession Number: 20101022-5127.

Comment Date: 5 p.m. Eastern Time on Friday, November 12, 2010.

Docket Numbers: ER11-1873-000.

Applicants: PJM Interconnection, L.L.C.

Description: PJM Interconnection, L.L.C. submits tariff filing per 35.13(a)(2)(iii): First Revised Service Agreement No. 871—BGE ad Constellation to be effective 9/17/2010.

Filed Date: 10/22/2010.

Accession Number: 20101022-5129.

Comment Date: 5 p.m. Eastern Time on Friday, November 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-27648 Filed 11-1-10; 8:45 am]

BILLING CODE 6717-01-P